DEPARTMENT OF ENERGY

Federal Energy Regulatory Commission

[Docket Nos. EC06-86-000, et al.]

Mirant Corporation and Its Public Utility Subsidiaries, et al.; Electric Rate and Corporate Filings

March 1, 2006.

The following filings have been made with the Commission. The filings are listed in ascending order within each docket classification.

1. Mirant Corporation and Its Public Utility Subsidiaries

[Docket No. EC06-86-000]

Take notice that on February 24, 2006, Mirant Corporation (Mirant) and its public utility subsidiaries (collectively, Applicants), on their own behalf and on behalf of any future acquirer of voting equity interests in Mirant that meets the criteria set forth therein, filed with the Commission an application (Application) requesting that the Commission grant blanket authorization for any future disposition or issuance of voting equity interests in Mirant with a value in excess of $10 million to any party, provided that any such disposition or issuance would neither: (i) Result in the acquiring party, together with its affiliates, holding a 5% or greater voting equity interest in Mirant, nor (ii) confer upon the acquiring party, together with its affiliates, any right to control (positively or negatively) the management or operations of any Mirant Public Utility (Future Transactions). Applicant states that no future transaction will have any adverse effect on competition, rates or regulation or will result in the cross-subsidization of a non-utility associate company or the pledge or encumbrances of utility assets for the benefit of an associate company.

Comment Date: 5 p.m. Eastern Time on March 17, 2006.

2. San Diego Gas & Electric Company v. Seller of Energy and Ancillary Services Into Markets Operated by the California Independent System Operator Corporation and the California Power Exchange; Investigation of Practices of the California Independent System Operator Corporation and the California Power Exchange

[Docket Nos. EL00-95-174 and EL00-98-160]

Take notice that on February 10, 2006, Portland General Electric Company (Portland) filed testimony in support of revised cost recovery inputs to be used in Portland's cost recovery analysis, along with an updated version of the cost recovery template and supporting tables previously submitted in this proceeding in compliance with the Commission's Order issued January 26, 2006.

Comment Date: 5 p.m. Eastern Time on March 13, 2006.

3. San Diego Gas & Electric Company v. Seller of Energy and Ancillary Services Into Markets Operated by the California Independent System Operator Corporation and the California Power Exchange; Investigation of Practices of the California Independent System Operator Corporation and the California Power Exchange

[Docket No. EL00-95-175, Docket No. EL00-98-161]

Take notice that on February 10, 2006, Powerex Corp. (Powerex) pursuant to Commission Order issued on January 26, 2006, filed a Cost Recovery Report.

Comment Date: 5 p.m. Eastern Time on March 13, 2006.

4. Pinnacle West Capital Corporation

[Docket Nos. ER00-2268-005, ER00-2268-006, ER00-2268-007, EL05-10-000, ER99-4124-003, ER99-4124-004, ER99-4124-005, EL05-11-000, ER00-3312-004, ER00-3312-005, ER00-3312-006, EL05-12-000, ER99-4122-006, ER99-4122-007, ER99-4122-008, EL05-13-000]

Take notice that on February 24, 2006, Pennacle West Capital Corporation, et al., brings additional authority in connection with it review of market-base rate authority and in particular use of a combined APS/SRP area as a relevant geographic market.

Comment Date: 5 p.m. Eastern Time on March 8, 2006.

5. Hawaiian Electric Industries, Inc.; Hawaiian Electric Company, Inc.

[Docket No. PH06-5-000]

Take notice that, on February 21, 2006, Hawaiian Electric Industries, Inc. (HEI) and Hawaiian Electric, Company, Inc. (HECO) jointly filed, on behalf of themselves and each of the holding companies in their holding company system Form 65B a petition seeking, pursuant to 18 CFR 366.3(c)(1) and 18 CFR 366.4(c)(1), a waiver of the Commission's regulations under the Public Utility Holding Company Act of 2005.

Comment Date: 5 p.m. Eastern Time on March 14, 2006.

6. Broad Street Contract Services, Inc.

[Docket No. PH06-7-000]

Take notice that on February 27, 2006, Broad Street Contract Services, Inc. (Broad Street) tendered for filing an Exemption Notification on behalf of itself and each of the holding companies in the same holding company system identified in FERC-65, seeking exemption from the requirements of the Public Utility Holding Company Act of 2005, 18 CFR 366.3(a) or 18 CFR 366.3(b).

Broad Street states that the Holding Companies include one power marketer authorized to sell energy at market-based rates.

Comment Date: 5 p.m. Eastern Time on March 20, 2006.

7. Mitsubishi Corporation; Diamond Generating Corporation; Diamond Frontier, LLC; Diamond Gateway, LLC; Diamond Georgia, LLC; Diamond Alabama, LLC; Diamond Washington, LLC; Diamond Oklahoma, LP; Diamond Alabama II, LLC; Wildflower Development LLC; Wildflower Generating Partners I LLC; Wildflower Energy, LP

[Docket No. PH06-9-000]

Take notice that on February 23, 2006, Mitsubishi Corporation; Diamond Generating Corporation; Diamond Frontier, LLC; Diamond Gateway, LLC; Diamond Georgia, LLC; Diamond Alabama, LLC; Diamond Washington, LLC; Diamond Oklahoma, LP; Diamond Alabama II, LLC; Wildflower Development LLC; Wildflower Generating Partners, I LLC; and Wildflower Energy, LP (collectively, Mitsubishi Companies), filed an Exemption Notification (FERC-65) seeking exemption from the requirements of the Public Utility Holding Company Act of 2005, 18 CFR 366.3(a) or 18 CFR 366.3(b).

Comment Date: 5 p.m. Eastern Time on March 16, 2006.

8. Tennessee Valley Authority

[Docket No. TX05-1-007]

Take notice that on February 21, 2006, Tennessee Valley Authority (TVA) filed a revised Transmission Impact Study Agreement, Facilities Study Agreement and an Interconnection Agreement with East Kentucky Power Cooperative, Inc. pursuant to the Commission's “Final Order Directing Interconnection and Accepting Interconnection Agreement,” issued January 19, 2006.

Comment Date: 5 p.m. Eastern Time on March 14, 2006.

9. Louisiana Energy and Power Authority v. Entergy Services, Inc.; Louisiana Energy and Power Authority v. Cleco Power

[Docket No. TX06-1-000]

Take notice that on February 17, 2006, Louisiana Energy and Power Authority (LEAP) hereby petitions, on behalf of itself and the Pool Members for which it operates a control area, the Commission to order Entergy Services, Inc. and Cleco Power to provide Network Integration Transmission Service under the respective Entergy and Cleco Open Access Transmission Tariffs that will enable LEPA to gain access to generation resources that are necessary to serve LEPA's load on a reasonable economic basis.

Comment Date: 5 p.m. Eastern Time on March 10, 2006.

10. Aero Energy LLC

[Docket No. TX06-2-000]

Take notice that on February 16, 2006, Aero Energy LLC (Aero Energy) filed an application for interconnection and transmission service on the Sagebrush Line pursuant to sections 210, 211 and 212 of the Federal Power Act. Aero Energy states that Sagebrush, a California general partnership, has refused Aero Energy access to the Sagebrush Line to interconnect with Southern California Edison Company's interstate transmission system.

Comment Date: 5 p.m. Eastern Time on March 10, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3185 Filed 3-7-06; 8:45 am]

BILLING CODE 6717-01-P